NATIONAL AERONAUTICS AND SPACE ADMINISTRATION

[Notice: (18-023)]

Heliophysics Advisory Committee; Meeting.

AGENCY: National Aeronautics and Space Administration.

ACTION: Notice of meeting.

SUMMARY: In accordance with the Federal Advisory Committee Act, as amended, the National Aeronautics and Space Administration (NASA) announces a meeting of the Heliophysics Advisory Committee (HPAC). This Committee functions in an advisory capacity to the Director, Heliophysics Division, in the NASA Science Mission Directorate. The meeting will be held for the purpose of soliciting, from the science community and other persons, scientific and technical information relevant to program planning.

DATES: Thursday, April 5, 2018, 9:00 a.m. to 5:00 p.m., and Friday, April 6, 2018, 9:00 a.m. to 2:00 p.m., Eastern Time.

ADDRESSES: NASA Headquarters, Room 3H42, 300 E Street SW, Washington, DC 20546.

FOR FURTHER INFORMATION CONTACT: Ms. KarShelia Henderson, Science Mission Directorate (SMD), NASA Headquarters, Washington, DC 20546, (202) 358-2355, fax (202) 358-2779, or khenderson@nasa.gov.

SUPPLEMENTARY INFORMATION: This meeting will be open to the public up to the capacity of the room. This meeting will also be available telephonically and via WebEx. You must use a touch-tone phone to participate in this meeting. Any interested person may dial the USA toll free conference call number (800) 619-8535 or toll number 1-773-756-4600, passcode 6050395, on both days, to participate in this meeting by telephone. The WebEx link is https://nasa.webex.com/; the meeting number on April 5 is 994 967 904 and the password is HPACMTG1! (case sensitive); the meeting number on April 6 is 995 738 795 and the password is HPACMTG1! (case sensitive).

The agenda for the meeting includes the following topics:

• Heliophysics Division News and Updates

• Development of Response to Research and Analysis Charge from the Science Mission Directorate

• Strategic Planning in Heliophysics Division

• Frontier Development Labs

• Status of the Space Weather Effort

• Status of Diversify, Realize, Integrate, Venture and Educate Initiative (DRIVE) Centers Solicitation

• Status of Lunar Orbiting Platform—Gateway

Attendees will be requested to sign a register and to comply with NASA Headquarters security requirements, including the presentation of a valid picture ID to Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees with U.S. citizens and Permanent Residents (green card holders) are requested to provide full name and citizenship status no less than 3 working days in advance by contacting Ms. KarShelia Henderson via email at khenderson@nasa.gov or by fax at (202) 358-2779.

It is imperative that the meeting be held on these dates to accommodate the scheduling priorities of the key participants.

Patricia D. Rausch,
Advisory Committee Management Officer, National Aeronautics and Space Administration.

[FR Doc. 2018-05962 Filed 3-22-18; 8:45 am]

BILLING CODE 7510-13-P